DEPARTMENT OF TRANSPORTATION

National Highway Traffic Safety Administration

[Docket No. NHTSA 2001-8809; Notice 2 EGO Vehicles Inc.]

Grant of Application for Temporary Exemption From Federal Motor Vehicle Safety Standards Nos. 119 and 120

EGO Vehicles Inc.(“Ego”), a Delaware corporation located in Fairhope, Alabama, through counsel in San Francisco, California, has applied for a temporary exemption of its “eGO” motor driven cycle from Federal Motor Vehicle Safety Standards Nos. 119, New Pneumatic Tires for Vehicles Other Than Passenger Cars, and No. 120, Tire Selection and Rims for Motor Vehicles Other Than Passenger Cars. The basis of the application is that an exemption would make easier the development or field evaluation of a low-emission motor vehicle and would not unreasonably lower the safety level of the vehicle.

Notice of receipt of the application was published on February 13, 2001, and an opportunity afforded for comment (66 FR 10051).

EGO seeks an exemption of two years from the requirements of Standards Nos. 119 and 120. Standard No. 119 establishes performance and endurance, marking, and treadwear indicators for motorcycle tires. Standard No. 120 establishes requirements for DOT-certified rims of certain sizes to ensure compatibility with DOT-certified tires of the same sizes. The eGO vehicle is not a motorcycle of conventional configuration, having a “chassis design * * * similar to that of a large scooter, but it has handlebars, a seat and other components that make it more similar in appearance and operation to a bicycle.” The eGO is powered by a single electric motor producing less than 2 horsepower, and is therefore a “motor driven cycle,” a subcategory of motorcycle under NHTSA definitions and regulations. The speed of the eGO “is limited by its controller and drivetrain configuration to less than 20 miles per hour.”

EGO states that it has located “many high-performance bicycle rims and tires,” but that “none of the manufacturers of these components has certified these products as compliant with FMVSS 119 or 120.” The most similar components that EGO has located are moped tires and rims. However, the “performance capabilities of these tires and rims are excessive given the low weight, low speed, and limited range of the eGO. Further, the dimensions of these products are not compatible with the eGO's chassis design or braking system * * *.”

EGO deems its only alternative to develop a specific tire and rim combination. However, testing “would be an extremely high cost to bear for a manufacturer of a new and innovative low-emission vehicle that is still at an early stage of its product life.” EGO argues that “amortizing the cost of testing over the limited number of vehicles sold would significantly increase the cost of this low-emission vehicle, reducing the market for the product and Petitioner's ability to evaluate its performance and market potential.”

In EGO's opinion, an exemption would not unreasonably degrade the safety of the vehicle “because Petitioner has selected the eGO's rims and tires based on stringent design criteria, considering the operating environment, gross vehicular weight, and top speed of the vehicle.” Standard No. 119 “seems especially inappropriate because the eGO cannot, by design, operate continuously for longer than approximately 75 minutes, or be propelled at a speed greater than 20 mph.” The endurance test (S6.1) “simulates conditions that would never be encountered by the operator of the vehicle simply by nature of the vehicle's design and performance restraints.” The purpose of Standard No. 120, in EGO's view “is to assure that a consumer will be able to purchase a tire that fits a given rim, and that any tire purchased in a given size will fit a rim of that size.” The petitioner believes it has achieved that purpose in the tires and rims it has selected for the eGO, and it will encourage owners “to use the replacement rims that we specify in the documentation provided with the vehicle.”

According to EGO, an exemption would be in the public interest as supporting an innovative low-cost, low-emission means of transportation. An exemption would be consistent with the objectives of traffic safety because the petitioner intends to comply with the regulations that the Consumer Product Safety Commission has promulgated for bicycles. The petitioner also points out that no tire and rim requirements are imposed by Standard No. 500, Low-speed Vehicles, on passenger-carrying vehicles with a slightly higher maximum speed (20 to 25 mph).

We received no comments on EGO's petition.

In order to grant the petitioner's request, NHTSA must find that “an exemption would make easier the development or field evaluation of” the eGO, and that the exemption “would not unreasonably lower the safety level of the vehicle.”

The eGO is represented to be more like a bicycle than a motor driven cycle and that the most similar components that it has discovered are moped tires and rims. However, EGO has concluded that the dimensions of moped tires and rims are not compatible with the eGO's chassis design or braking system. In view of the fact that Standards Nos. 119 and 120 do not prescribe requirements for bicycle-like tires and rims, and that those that are available are not compatible, we believe that the petitioner has sustained the argument that an exemption from these requirements would make easier the development and field evaluation of the vehicle.

Given the fact that the maximum speed of the eGO is 20 mph or less, the vehicle is intended to be operated in urban and suburban environments and not on freeways or expressways. Thus, the tires are not likely to be subject to the same stresses as those manufactured for use on higher-speed vehicles. Further, an exemption from Standard No. 119 is also an exemption from Standard No. 120 which applies to vehicles equipped with pneumatic tires for highway service and requires them, in pertinent part, to be equipped with tires that meet Standard No. 119.

It is in the public interest to promote the use of low-emission vehicles, particularly in crowded urban environments. It is anticipated that the eGO will be certified to comply with all other Federal motor vehicle safety standards that apply to motor-driven cycles.

In consideration of the foregoing, it is hereby found that EGO Vehicles, Inc., has met its burden of persuasion that an exemption would make easier the development or field evaluation of a low-emission motor vehicle and would not unreasonably lower the safety level of the vehicle. It is further found that an exemption is in the public interest and consistent with the objectives of motor vehicle safety. Accordingly, EGO Vehicles Inc. is hereby granted NHTSA Temporary Exemption No. 2001-2 from 49 CFR 571.119 Standard No. 119, New Pneumatic Tires for Vehicles Other Than Passenger Cars, and 49 CFR 571.120 Standard No. 120, Tire Selection and Rims for Motor Vehicles Other Than Passenger Cars. The temporary exemption expires April 1, 2003.

(49 U.S.C. 30113; delegations of authority at 49 CFR 1.50. and 501.8)

Issued on May 18, 2001.
L. Robert Shelton,
Executive Director.

[FR Doc. 01-13130 Filed 5-23-01; 8:45 am]

BILLING CODE 4910-59-P